ENVIRONMENTAL PROTECTION AGENCY

[ER-FRL-6626-9]

Environmental Impact Statements; Notice of Availability

Responsible Agency: Office of Federal Activities, General Information (202) 564-7167 or http://www.epa.gov/oeca/ofa

Weekly receipt of Environmental Impact Statements

Filed February 18, 2002 Through February 22, 2002

Pursuant to 40 CFR 1506.9.

EIS No. 020072, FINAL EIS, COE, WA, Lower Snake River Juvenile Salmon Migration Feasibility Study, Implementation, To Increase the Survival of Juvenile Anadromous Fish, Snake River, Walla Walla, WA , Wait Period Ends: April 01, 2002, Contact: Lonnie Mettler (509) 527-7268.

EIS No. 020073, DRAFT EIS, BLM, NV, Leeville Mining Project, Propose to Develop and Operate an Underground Mine and Ancillary Facilities including Dewatering Operation, Plan-of-Operations/Right-of-Way Permits and COE Section 404 Permit, Elko and Eureaka Counties, NV, Comment Period Ends: April 29, 2002, Contact: Deb McFarlane (775) 753-0200. This document is available on the Internet at: http://www.nv.blm.gov/elko.

EIS No. 020074, FINAL EIS, FHW, AR, TX, U.S. 71 Highway Improvement Project, between Texarkana, (US71) Arkansas and DeQueen, Funding, Right-of-Way Approval and COE Section 404 Permit, Little River, Miller and Sevier Counties, AR, and Bowie County, TX , Wait Period Ends: April 01, 2002, Contact: Elizabeth Romero (501) 324-5309.

EIS No. 020075, DRAFT EIS, NOA, Amendment 13 to the Fishery Management Plan for Summer Flounder, Scup, and Black Sea Bass, Implementation, in the Western Atlantic Ocean, from Cape Harteras, NC, northward to the U.S.-Canadian Border, Comment Period Ends: April 15, 2002, Contact: Steve Kokkinakis (202) 482-3639.

EIS No. 020076, FINAL EIS, NOA, AK, American Fisheries Act Amendments 61/61/13/8: Amendment 61 Groundfish Fishery of the Bering Sea and Aleutian Islands Area; Amendment 61 Groundfish of the Gulf of Alaska; Amendment 13 Bering Sea and Aleutian Islands King and Tanner Crab, and Amendment 8 to the Scallop Fishery off Alaska, Fishery Management Plans, AK, Due: April 01, 2002, Contact: Kent Lind (907) 586-7226.

EIS No. 020077, DRAFT EIS, FRC, WY, NV, UT, CA, Kern River 2003 Gas Transmission Expansion Project, To Expand the Existing (KRGT) Interstate Pipeline System from southwestern Wyoming to southern California, Right-of-Way Grant, NPDES Permits and COE Section 404, FERC Docket No. CP01-422-000, WY, UT, NV and CA, Comment Period Ends: April 15, 2002, Contact: Michael Boyle (202) 208-0839. This document is available on the Internet at: http://www.Kernriver2003.com

EIS No. 020078, DRAFT EIS, SFW, Resident Canada Goose Management Plan, To Evaluate Alternative Strategies to Reduce, Manage and Control Resident Canada Goose Populations, Within the Conterminous United States, Comment Period Ends: May 30, 2002, Contact: Ron Kokel (703) 358-1714.

Amended Notices

EIS No. 010541, DRAFT EIS, COE, TX, Texas City's Proposed Shoal Point Container Terminal Project, Containerized Cargo Gateway Development, US Army COE Section 404 and 10 Permits Issuance, Material Placement Area (DMPA), City of Texas, Galveston County, TX , Due: March 18, 2002, Contact: Sharon Manella Tirpak (409) 766-3136. Revision of FR Notice Published on 01/25/2002: CEQ Comment Period Ending 02/19/2002 has been extended to 03/18/2002.

EIS No. 020017, DRAFT EIS, BLM, WY, Powder River Basin Oil and Gas Project, Additional Coal Bed Methane (CBM) Resources Development, Drilling, Completing, Operating and Reclaiming of New CBM Wells and Constructing, Operating and Reclaiming of various Ancillary Facilities, Application for Permit to Drill (APD), Special Use and US Army COE Section 404 Permits Issuance and Right-of-Way Grant, Campbell, Converse, Johnson and Sheridan Counties, WY, Comment Period Ends: April 17, 2002, Contact: Paul Beels (307) 684-1100. Revision of FR Notice Published on 02/01/2002: CEQ Comment Period Ending 04/18/2002 is Corrected to 04/17/2002.

EIS No. 020056, DRAFT EIS, BLM, WY, VOID EIS—Powder River Basin Oil and Gas Project, Additional Coal Bed Methane (CBM) Resources Development, Drilling, Completing, Operating and Reclaiming of New CBM Wells and Constructing, Operating and Reclaiming of various Ancillary Facilities, Application for Permit to Drill (APD), Special Use and US Army COE Section 404 Permits Issuance and Right-of-Way Grant, several counties, WY, Revision of FR notice published on 02/15/2002: The above DEIS was inadvertently published in the 02/15/2002 FR. The Correct DEIS was published in the FR on 01/18/2002. The Correct CEQ Accession Number is 020017 and the CorrectComment Period Ends on 04/17/2002.

Dated: February 26, 2002.
B. Katherine Biggs,
Associate Director, NEPA Compliance Division, Office of Federal Activities.

[FR Doc. 02-4942 Filed 2-28-02; 8:45 am]

BILLING CODE 6560-50-U